DEPARTMENT OF TRANSPORTATION

Federal Aviation Administration

14 CFR Part 97

[Docket No. 30729 ; Amdt. No. 3378]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 23, 2010. The compliance date for each SIAP, associated Takeoff Minimums, and ODP is specified in the amendatory provisions.

The incorporation by reference of certain publications listed in the regulations is approved by the Director of the Federal Register as of June 23, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on June 11, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 29 JUL 2010

Atka, AK, Atka, ATKA RNAV ONE Graphic Obstacle DP, CANCELLED

Atka, AK, Atka, EIVRS ONE Graphic Obstacle DP, CANCELLED

Atka, AK, Atka, HIMKI ONE Graphic Obstacle DP

Atka, AK, Atka, INOTY ONE Graphic Obstacle DP

Atka, AK, Atka, Takeoff Minimums and Obstacle DP, Amdt 1

Marshall, AK, Marshall Don Hunter SR, BIBNE TWO Graphic Obstacle DP

Marshall, AK, Marshall Don Hunter SR, Takeoff Minimums and Obstacle DP, Amdt 1

Dothan, AL, Dothan Rgnl, RNAV (GPS) RWY 18, Amdt 1

Dothan, AL, Dothan Rgnl, RNAV (GPS) RWY 36, Orig

Benton, AR, Saline County Rgnl, ILS OR LOC/DME RWY 2, Orig

Benton, AR, Saline County Rgnl, LOC/DME RWY 2, Orig, CANCELLED

Flagstaff, AZ, Flagstaff Pulliam, GPS RWY 3, Orig-B, CANCELLED

Flagstaff, AZ, Flagstaff Pulliam, RNAV (GPS) RWY 3, Orig

Mesa, AZ, Falcon Fld, GPS RWY 4R, Orig, CANCELLED

Mesa, AZ, Falcon Fld, NDB-A, Amdt 1

Mesa, AZ, Falcon Fld, RNAV (GPS) RWY 4L, Orig

Mesa, AZ, Falcon Fld, RNAV (GPS) RWY 4R, Orig

Mesa, AZ, Falcon Fld, RNAV (GPS)-B, Orig

Mesa, AZ, Falcon Fld, Takeoff Minimums and Obstacle DP, Amdt 4

Daggett, CA, Barstow-Daggett, DAGGETT ONE Graphic Obstacle DP

Hanford, CA, Hanford Muni, RNAV (GPS) RWY 32, Amdt 1

Hanford, CA, Hanford Muni, RNAV (GPS)-A, Orig

San Carlos, CA, San Carlos, RNAV (GPS) Y RWY 30, Orig

San Carlos, CA, San Carlos, RNAV (GPS) Z RWY 30, Amdt 1

Upland, CA, Cable, GPS RWY 6, Orig-A, CANCELLED

Upland, CA, Cable, RNAV (GPS) RWY 6, Orig

Upland, CA, Cable, Takeoff Minimums and Obstacle DP, Amdt 3

Orlando, FL, Orlando Intl, ILS OR LOC RWY 18R, Amdt 9

Winter Haven, FL, Winter Haven's Gilbert, RNAV (GPS) RWY 5, Amdt 1

Winter Haven, FL, Winter Haven's Gilbert, Takeoff Minimums and Obstacle DP, Amdt 1

Greensboro, GA, Greene County Rgnl, Takeoff Minimums and Obstacle DP, Amdt 3

Honolulu, HI, Honolulu Intl, LOC RWY 8L, Orig-A

West Union, IA, George L Scott Muni, GPS RWY 17, Orig, CANCELLED

West Union, IA, George L Scott Muni, GPS RWY 35, Orig, CANCELLED

West Union, IA, George L Scott Muni, RNAV (GPS) RWY 17, Orig

West Union, IA, George L Scott Muni, RNAV (GPS) RWY 35, Orig

West Union, IA, George L Scott Muni, Takeoff Minimums and Obstacle DP, Amdt 2

West Union, IA, George L Scott Muni, VOR/DME-A, Amdt 4

Belleville, IL, Scott AFB/Midamerica, GPS RWY 14L, Orig-B, CANCELLED

Belleville, IL, Scott AFB/Midamerica, GPS RWY 32R, Orig-B, CANCELLED

Belleville, IL, Scott AFB/Midamerica, RNAV (GPS) RWY 14L, Orig

Belleville, IL, Scott AFB/Midamerica, RNAV (GPS) RWY 32R, Orig

Casey, IL, Casey Muni, Takeoff Minimums and Obstacle DP, Amdt 4

Chicago/West Chicago, IL, DuPage, ILS OR LOC RWY 2L, Amdt 2

Chicago/West Chicago, IL, DuPage, RNAV (GPS) RWY 10, Orig

Chicago/West Chicago, IL, DuPage, VOR RWY 10, Amdt 12

Coffeyville, KS, Coffeyville Muni, Takeoff Minimums and Obstacle DP, Amdt 1

Coffeyville, KS, Coffeyville Muni, VOR/DME-A, Amdt 7

Wichita, KS, Colonel James Jabara, RNAV (GPS) RWY 18, Orig-C

Wichita, KS, Colonel James Jabara, RNAV (GPS) RWY 36, Orig-B

Churchville, MD, Harford County, GPS RWY 10, Orig, CANCELLED

Churchville, MD, Harford County, RNAV (GPS)-B, Orig

Auburn/Lewiston, ME, Auburn/Lewiston Muni, RNAV (GPS) RWY 4, Amdt 1

Auburn/Lewiston, ME, Auburn/Lewiston Muni, RNAV (GPS) RWY 22, Amdt 1

Lincoln, ME, Lincoln Rgnl, Takeoff Minimums and Obstacle DP, Amdt 3

Waterville, ME, Waterville Robert Lafleur, ILS OR LOC/DME RWY 5, Amdt 3

Waterville, ME, Waterville Robert Lafleur, RNAV (GPS) RWY 5, Orig

Canby, MN, Myers Field, RNAV (GPS) RWY 12, Amdt 1

Canby, MN, Myers Field, RNAV (GPS) RWY 30, Amdt 1

Carson City, NV, Carson, RNAV (GPS)-A, Amdt 1

Glens Falls, NY, Floyd Bennett Memorial, ILS OR LOC RWY 1, Amdt 4

Glens Falls, NY, Floyd Bennett Memorial, RNAV (GPS) RWY 1, Amdt 1

Glens Falls, NY, Floyd Bennett Memorial, RNAV (GPS) RWY 19, Amdt 1

Fostoria, OH, Fostoria Metropolitan, RNAV (GPS) RWY 27, Amdt 1

Shawnee, OK, Shawnee Rgnl, Takeoff Minimums and Obstacle DP, Orig

North Bend, OR, Southwest Oregon Rgnl, ILS OR LOC RWY 4, Amdt 7

North Bend, OR, Southwest Oregon Rgnl, NDB RWY 4, Amdt 5

North Bend, OR, Southwest Oregon Rgnl, RNAV (GPS) Y RWY 4, Orig

North Bend, OR, Southwest Oregon Rgnl, RNAV (RNP) Z RWY 4, Orig

North Bend, OR, Southwest Oregon Rgnl, VOR-A, Amdt 5

North Bend, OR, Southwest Oregon Rgnl, VOR/DME-B, Amdt 4

Summerville, SC, Summerville, NDB RWY 6, Amdt 1

Summerville, SC, Summerville, RNAV (GPS) RWY 6, Orig

Summerville, SC, Summerville, RNAV (GPS) RWY 24, Orig

Summerville, SC, Summerville, Takeoff Minimums and Obstacle DP, Amdt 1

Big Spring, TX, Big Springs Mc Mahon-Wrinkle, RNAV (GPS) RWY 17, Amdt 1

Big Spring, TX, Big Springs Mc Mahon-Wrinkle, RNAV (GPS) RWY 35, Amdt 1

Big Spring, TX, Big Springs Mc Mahon-Wrinkle, Takeoff Minimums and Obstacle DP, Amdt 2

Brenham, TX, Brenham Muni, RNAV (GPS) RWY 16, Amdt 1

Brenham, TX, Brenham Muni, RNAV (GPS) RWY 34, Amdt 1

Brenham, TX, Brenham Muni, VOR/DME RWY 16, Amdt 2

College Station TX, Easterwood Field, ILS OR LOC RWY 34, Amdt 13A

Dallas-Fort Worth, TX, Dallas/Fort Worth Intl, Stadium Visual RWY 31R, Amdt 6, CANCELLED

Georgetown, TX, Georgetown Muni, Takeoff Minimums and Obstacle DP, Orig

Granbury, TX, Granbury Rgnl, GPS RWY 14, Orig-B, CANCELLED

Granbury, TX, Granbury Rgnl, RNAV (GPS) RWY 14, Orig

La Porte, TX, La Porte Muni, Takeoff Minimums and Obstacle DP, Amdt 5

Lago Vista, TX, Lago Vista TX-Rusty Allen, Takeoff Minimums and Obstacle DP, Orig

Seminole, TX, Gaines County, RNAV (GPS) RWY 35, Amdt 1

South Hill, VA, Mecklenburg-Brunswick Rgnl, GPS RWY 19, Orig, CANCELLED

South Hill, VA, Mecklenburg-Brunswick Rgnl, RNAV (GPS) RWY 1, Orig

South Hill, VA, Mecklenburg-Brunswick Rgnl, RNAV (GPS) RWY 19, Orig

South Hill, VA, Mecklenburg-Brunswick Rgnl, Takeoff Minimums and Obstacle DP, Amdt 2

Burlington, VT, Burlington Intl, Takeoff Minimums and Obstacle DP, Amdt 13

Douglas, WY, Converse County, RNAV (GPS) RWY 11, Orig

Douglas, WY, Converse County, RNAV (GPS) RWY 29, Amdt 1

On June 09, 2010 (75 FR 32654) the FAA published an Amendment in Docket No. 30727, Amdt 3376 to Part 97 of the Federal Aviation Regulations under section 97.23 and 97.33. The following entry effective 29 July 2010 is hereby rescinded:

Childress, TX, Childress Muni, Takeoff Minimums and Obstacle DP, Amdt 1

[FR Doc. 2010-14983 Filed 6-22-10; 8:45 am]

BILLING CODE 4910-13-P